DEPARTMENT OF COMMERCE

National Oceanic and Atmospheric Administration

[RTID 0648-XE618]

Marine Mammals; File Nos. 28286 and 22095

AGENCY: National Marine Fisheries Service (NMFS), National Oceanic and Atmospheric Administration (NOAA), Commerce.

ACTION: Notice; extension of comment period and proposed permit extension.

SUMMARY: Notice is hereby given that the National Marine Fisheries Service is extending the public comment period associated with the notice of receipt for an application for a permit (File No. 28286) to conduct research and enhancement activities on one stranded, non-releasable beluga whale (Delphinapterus leucas) from the endangered Cook Inlet distinct population segment (DPS). The application has been updated to reflect additional information received from the applicant. Additionally, we propose extending SeaWorld's current permit, No. 22095-01, under which the subject beluga whale is currently held, for six months to allow additional processing of the updated application (File No. 28286).

DATES: The comment period for the notice published December 17, 2024, at 89 FR 102117, is extended. Written comments must be received on or before March 3, 2025.

ADDRESSES: The application for a new permit and related documents are available for review by selecting “Records Open for Public Comment” from the “Features” box on the Applications and Permits for Protected Species home page, https://apps.nmfs.noaa.gov, and then selecting File No. 28286 from the list of available applications. These documents are also available upon written request via email to NMFS.Pr1Comments@noaa.gov.

Written comments on this application (File No. 28286) and the proposed extension to Permit No. 22095-01 should be submitted via email to NMFS.Pr1Comments@noaa.gov. Please include File Nos. 28286 and 22095, respectively, in the subject line of the email comment.

Those individuals requesting a public hearing should submit a written request via email to NMFS.Pr1Comments@noaa.gov. The request should set forth the specific reasons why a hearing on this application would be appropriate.

FOR FURTHER INFORMATION CONTACT: Courtney Smith, Ph.D., or Jennifer Skidmore, (301) 427-8401.

SUPPLEMENTARY INFORMATION: On December 17, 2024 (89 FR 102117), the National Marine Fisheries Service (NMFS) published notice of a permit application (File No. 28286) submitted by SeaWorld LLC, 6240 Sea Harbor Drive, Orlando, FL 32821 (Responsible Party: Chris Dold, DVM).

The applicant proposes to conduct research and enhancement activities on and provide long-term care for one male beluga whale (NOA0010477/“Tyonek”) from the depleted and endangered Cook Inlet DPS. The permit is requested for a 5-year period. NMFS received a request for an extension of the public comment period. Additionally, NMFS received updated information from the applicant in response to preliminary questions from the Marine Mammal Commission (MMC), clarifying research sampling and enhancement activity details in the take tables, educational programs, and captive breeding of the subject whale. These changes have been incorporated into the application in APPS (see also new uploaded document, “28286_Response to MMC Comments_1.2.2024.pdf”. In addition, NMFS is proposing to extend SeaWorld's current research and enhancement permit for Tyonek, No. 22095-01 (75 FR 27418, April 17, 2024), for six months to allow additional processing of the updated application (File No. 28286). That extended permit would expire on September 15, 2025. Thus, NMFS is extending the public comment period for an additional 30 days.

Dated: January 14, 2025.
Julia M. Harrison,
Chief, Permits and Conservation Division, Office of Protected Resources, National Marine Fisheries Service.

[FR Doc. 2025-01282 Filed 1-17-25; 8:45 am]

BILLING CODE 3510-22-P